DEPARTMENT OF HOMELAND SECURITY

[CIS No. 2309-03]

Performance Review Boards—Appointment of Members

AGENCY: Department of Homeland Security, Bureau of Immigration and Customs Enforcement, and Bureau of Citizenship and Immigration Services.

ACTION: Notice.

SUMMARY: This notice announces the appointment of the members of the Bureau of Immigration and Customs Enforcement (ICE), and the Bureau of Citizenship and Immigration Services (CIS) Performance Review Boards (PRBs) under 5 U.S.C. 4314(c)(4). The purpose of the PRBs is to review performance appraisals for senior executives and to recommend to the appointing authority proposed performance ratings, bonuses, and other related personnel actions.

DATES: This notice is effective December 16, 2003.

FOR FURTHER INFORMATION CONTACT: C. Rick Hastings, Director, Workforce and Information Management, 800 K Street, NW., Suite 5000, Washington, DC 20536, Telephone (202) 514-3636.

SUPPLEMENTARY INFORMATION: There are two PRBs, one in ICE and the other in CIS.

ICE Performance Review Board

The purpose of this Board is to review the performance appraisals and proposed related personnel actions for senior executives who report to the Assistant Secretary, ICE. The members are: Joseph Mancias, Janis Sposato, Joseph Langlois, Terrance O'Reilly, Dea Carpenter, Andrea Quarantillo, and David R. Howell.

CIS Performance Review Board

The purpose of this Board is to review the performance appraisals and proposed related personnel actions for all senior executives who report to the Director, CIS: The members are: Anthony Tangeman, Charles DeMore, Joseph Greene, J. Scott Blackman, John Chase, Grace Mastalli, and Paul Ladd.

Dated: December 11, 2003.
Ronald J. James,
Chief Human Capital Officer.

[FR Doc. 03-31076 Filed 12-12-03; 10:06 am]

BILLING CODE 4410-10-P